DEPARTMENT OF COMMERCE

International Trade Administration

[A-570-894]

Notice of Extension of Time Limit for Final Results of Antidumping Duty Administrative Review: Certain Tissue Paper Products from the People's Republic of China

AGENCY: Import Administration, International Trade Administration, U.S. Department of Commerce.

FOR FURTHER INFORMATION CONTACT: Brian Smith or Gemal Brangman, AD/CVD Operations, Office 2, Import Administration, International Trade Administration, U.S. Department of Commerce, 14th Street and Constitution Avenue, NW, Washington, DC, 20230; telephone: (202) 482-1766 or (202) 482-3773, respectively.

SUPPLEMENTARY INFORMATION:

Background

On April 13, 2010, the Department of Commerce (the Department) published in the Federal Register the preliminary results of the administrative review of the antidumping duty order on certain tissue paper products from the People's Republic of China (“PRC”), covering the period March 1, 2008, through February 28, 2009. See Certain Tissue Paper Products from the People's Republic of China: Preliminary Results and Partial Rescission of the 2008-2009 Administrative Review, 75 FR 18812 (April 13, 2010). The current deadline for the final results of this review is August 11, 2010.

Extension of Time Limits for Final Results of Review

Section 751(a)(3)(A) of the Tariff Act of 1930, as amended (“the Act”), requires the Department to issue the final results of the review of an antidumping duty order within 120 days after the date on which the preliminary results are published in the Federal Register. If it is not practicable to complete the review within this time period, the Department may extend that 120-day period to 180 days.

The Department finds that it is not practicable to complete the final results of this review within the current time frame, as it requires additional time to properly analyze the arguments submitted by the interested parties in their case and rebuttal briefs, and on the surrogate labor value data the Department placed on the record for comment by the parties.¹ Furthermore, the Department requested additional information on August 9, 2010, on the surrogate value for labor due to a recent finding that the wage rate reported by the International Labor Organization for Honduras, which is part of our aggregate surrogate value for labor, was inaccurate. See Certain Frozen Warmwater Shrimp from the Socialist Republic of Vietnam: Final Results and Partial Rescission of Antidumping Duty Administrative Review, dated July 30, 2010, and accompanying Issues and Decision Memorandum at Comment 9. As a result, the Department requires additional time to solicit comments from interested parties on this issue, and to properly analyze the arguments submitted.

¹ See Memorandum to the File from Team Leader, entitled, “Data on Labor Wage,” dated July 14, 2010.

Therefore, in accordance with section 751(a)(3)(A) of the Act, the Department is extending the time limit for completion of the final results of this review until October 12, 2010, which is the next business day after 180 days after the date on which the notice of the preliminary results was published in the Federal Register.

We are issuing and publishing this notice in accordance with sections 751(a)(1) and 777(i)(1) of the Act.

Dated: August 9, 2010.
Edward Yang,
Acting Deputy Assistant Secretary for Antidumping and Countervailing Duty Operations.

[FR Doc. 2010-20189 Filed 8-13-10; 8:45 am]

BILLING CODE 3510-DS-S